DEPARTMENT OF ENERGY

Federal Energy Regulatory Commission

Combined Notice of Filings #2

Take notice that the Commission received the following exempt wholesale generator filings:

Docket Numbers: EG13-36-000.

Applicants: Catalina Solar Lessee, LLC.

Description: Notice of Self-Certification of Exempt Wholesale Generator Status of Catalina Solar Lessee, LLC.

Filed Date: 5/24/13.

Accession Number: 20130524-5074.

Comments Due: 5 p.m. ET 6/14/13.

Take notice that the Commission received the following electric rate filings:

Docket Numbers: ER10-1246-002; ER10-1982-003; ER10-1253-002; ER10-1252-002; ER13-764-001; ER12-2498-002; ER12-2499-002.

Applicants: Consolidated Edison Energy, Inc., Consolidated Edison Company of New York, Inc., Orange and Rockland Utilities, Inc., Consolidated Edison Solutions, Inc., CED White River Solar, LLC, Alpaugh 50, LLC, Alpaugh North, LLC.

Description: Notice of non-material change status of Consolidated Edison Energy, Inc., et al.

Filed Date: 5/24/13.

Accession Number: 20130524-5081.

Comments Due: 5 p.m. ET 6/14/13.

Docket Numbers: ER13-1548-000.

Applicants: Southern California Edison Company.

Description: Amended IFA with High Desert Power Project LLC to be effective 7/24/2013.

Filed Date: 5/24/13.

Accession Number: 20130524-5000.

Comments Due: 5 p.m. ET 6/14/13.

Docket Numbers: ER13-1551-000.

Applicants: Midcontinent Independent System Operator, Inc., MidAmerican Energy Company.

Description: SA 2331 MidAm-Cornbel-Auburn WDS to be effective 8/1/2013.

Filed Date: 5/24/13.

Accession Number: 20130524-5011.

Comments Due: 5 p.m. ET 6/14/13.

Docket Numbers: ER13-1552-000.

Applicants: Midcontinent Independent System Operator, Inc.

Description: 2013-05-25 Name Change Filing to be effective 6/1/2013.

Filed Date: 5/24/13.

Accession Number: 20130524-5031.

Comments Due: 5 p.m. ET 6/14/13.

Docket Numbers: ER13-1553-000.

Applicants: Duke Energy Carolinas, LLC.

Description: Rutherford PPA—RS 317 Revision (2013) to be effective 7/2/2012.

Filed Date: 5/24/13.

Accession Number: 20130524-5053.

Comments Due: 5 p.m. ET 6/14/13.

Docket Numbers: ER13-1554-000.

Applicants: Midcontinent Independent System Operator, Inc.

Description: 2013-05-25 Name Change Filing 2 to be effective 6/1/2013.

Filed Date: 5/24/13.

Accession Number: 20130524-5054.

Comments Due: 5 p.m. ET 6/14/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 24, 2013.
Nathaniel J. Davis, Sr.,
Deputy Secretary.

[FR Doc. 2013-13580 Filed 6-6-13; 8:45 am]

BILLING CODE 6717-01-P